SECURITIES AND EXCHANGE COMMISSION

[Release No. 34-101587; File No. SR-CboeBZX-2024-026]

Self-Regulatory Organizations; Cboe BZX Exchange, Inc.; Notice of Withdrawal of a Proposed Rule Change To Permit the Generic Listing and Trading of Multi-Class ETF Shares

November 12, 2024.

On April 15, 2024, Cboe BZX Exchange, Inc. (“BZX” or “Exchange”) filed with the Securities and Exchange Commission (“Commission”), pursuant to Section 19(b)(1) of the Securities Exchange Act of 1934 (“Act”) ¹ and Rule 19b-4 thereunder,² a proposed rule change to amend BZX Rule 14.11(l) to permit the generic listing and trading of Multi-Class ETF Shares. The proposed rule change was published for comment in the Federal Register on May 1, 2024.³

¹ 15 U.S.C. 78s(b)(1).

² 17 CFR 240.19b-4.

³ See Securities Exchange Act Release No. 100034 (April 25, 2024), 89 FR 35255.

On May 30, 2024, pursuant to Section 19(b)(2) of the Act,⁴ the Commission designated a longer period within which to approve the proposed rule change, disapprove the proposed rule change, or institute proceedings to determine whether to disapprove the proposed rule change.⁵ On July 12, 2024, the Commission instituted proceedings pursuant to Section 19(b)(2)(B) of the Act ⁶ to determine whether to disapprove the proposed rule change,⁷ and on October 23, 2024, the Commission designated a longer period for Commission action on the proposed rule change.⁸ On November 8, 2024, the Exchange withdrew the proposed rule change (SR-CboeBZX-2024-026).

⁴ 15 U.S.C. 78s(b)(2).

⁵ See Securities Exchange Act Release No. 100248, 89 FR 48202 (June 5, 2024).

⁶ 15 U.S.C. 78s(b)(2)(B).

⁷ See Securities Exchange Act Release No. 100522, 89 FR 58463 (July 18, 2024).

⁸ See Securities Exchange Act Release No. 101422, 89 FR 86393 (October 30, 2024).

For the Commission, by the Division of Trading and Markets, pursuant to delegated authority.⁹
⁹ 17 CFR 200.30-3(a)(12).
Sherry R. Haywood,
Assistant Secretary.

[FR Doc. 2024-26753 Filed 11-15-24; 8:45 am]

BILLING CODE 8011-01-P